DEPARTMENT OF TRANSPORTATION

Federal Aviation Administration

DEPARTMENT OF INTERIOR

National Park Service

[Docket No. FAA-2014-0782]

Grand Canyon National Park Quiet Aircraft Technology Incentive: Seasonal Relief From Allocations in the Dragon and Zuni Point Corridors

Authority: Moving Ahead for Progress in the 21st Century Act, Sec. 35001, Public Law 112-141, 126 Stat. 843; National Parks Air Tour Management Act, Sec. 804, Public Law 106-181, 114 Stat. 192.

AGENCY: Federal Aviation Administration, Transportation; National Park Service, Interior.

ACTION: Notice and request for public comment.

SUMMARY: The Moving Ahead for Progress in the 21st Century Act (MAP-21) in section 35001(b)(2) directs the Administrator of the Federal Aviation Administration (FAA) and the Secretary of the Interior to provide quiet aircraft technology incentives for commercial air tour operators at Grand Canyon National Park. The FAA and the National Park Service (NPS) propose to implement this directive by giving effect to section 804(c) of the National Parks Air Tour Management Act (NPATMA) to provide seasonal relief from allocations in the Dragon and Zuni Point corridors for commercial air tour operators that convert or have converted to quiet aircraft technology. The FAA and the NPS will ensure that seasonal relief from allocations complies with statutory conditions that the cumulative impact of such operations does not increase noise at the Grand Canyon and that this incentive does not diminish the statutory mandate to achieve the substantial restoration of natural quiet. This incentive is proposed to be made available in the Dragon and Zuni Point corridors during the first quarter (January-March) beginning in 2015, may be extended to include part or all of the fourth quarter beginning in 2016, and will remain in effect unless it violates the statutory conditions or until a longer term approach for managing air tour noise is in place.

DATES: Send comments on or before December 10, 2014.

ADDRESSES: Send comments identified by docket number FAA-2014-0782 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: All comments received will be posted, without change, to http://www.regulations.gov, including any personal information the commenter provides. Using the search function of the docket Web site, anyone can find and read the electronic form of all comments received into any docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at ­ http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT:

Keith Lusk, Program Manager, Federal Aviation Administration, P.O. Box 92007, Los Angeles, California 90009-2007; telephone (310) 725-3808; email keith.lusk@faa.gov

Robin Martin, Chief, Office of Planning and Compliance, Grand Canyon National Park, P.O. Box 129, Grand Canyon, Arizona 86023-0129; telephone (928) 638-7684; email Robin_Martin@nps.gov

SUPPLEMENTARY INFORMATION:

I. Authority

1. The National Park Overflights Act of 1987, Public Law 100-91, directed the Secretary of the Interior and the Administrator of the FAA to take actions to provide for the substantial restoration of the natural quiet and experience of Grand Canyon National Park and the protection of public health and safety from adverse effects associated with aircraft overflight. As part of these actions, operational limits for commercial air tour operations at Grand Canyon National Park (the park) were imposed by FAA regulations at 14 CFR part 93 issued on April 4, 2000. With some exceptions not relevant to this notice, these regulations establish an allocation scheme for the park, require commercial air tour operators to use one allocation for each flight that is a commercial air tour, and prohibit operators from conducting more commercial air tours in any calendar year than the number of allocations specified on the certificate holder's operations specifications issued by the FAA. 14 CFR 93.319. These regulations also define and describe quiet aircraft technology (QT). 14 CFR 93.303 and appendix A to subpart U of part 93.

2. The National Parks Air Tour Management Act (NPATMA), Public Law 106-181, was signed into law on April 5, 2000. Under section 804(c), commercial air tour operations by any fixed-wing or helicopter aircraft that employs QT and that replaces an existing aircraft are not subject to the operational flight allocations that apply to other commercial air tour operations at the park, provided that the cumulative impact of such operations does not increase noise at the Grand Canyon. Section 804(d) provides that a commercial air tour operation by an aircraft in a commercial air tour operator's fleet on the date of enactment of NPATMA that meets QT requirements or is subsequently modified to meet QT requirements may be used for commercial air tour operations under the same terms and conditions as section 804(c) without regard to whether it replaces an existing aircraft. In addition, NPATMA expressly states that it does not relieve or diminish the statutory mandate to achieve substantial restoration of natural quiet and experience at the park.

3. Section 35001 of the Moving Ahead for Progress in the 21st Century Act (MAP-21), Public Law 112-141, July 6, 2012, directs the Secretary of the Interior and the Administrator of the Federal Aviation Administration to provide incentives for commercial air tour operators that convert to QT, determined in accordance with the regulations then in effect. MAP-21 gives as an example of an incentive increasing the flight allocations for operators of QT on a net basis consistent with section 804(c) of NPATMA, provided that the cumulative impact of such operations does not increase noise at the Grand Canyon.

II. Current QT Incentives

This proposed incentive is one of several that the FAA and the NPS are providing for operators that convert or have converted to QT to encourage greater use of QT. The NPS, in consultation with the FAA, reduced the fees applicable to commercial air tour operations at the Grand Canyon by 20 percent (from $25 to $20 per flight) for an air tour using QT. This fee reduction went into effect on January 1, 2014.

On February 3, 2014, the FAA, in consultation with the NPS, announced its intention to distribute FAA-held allocations to commercial tour operators in proportion to the number of QT operations flown in the first six months of 2014. 79 FR 6267. These allocations are to be used for QT flights during the 2014 air tour season and beyond.

III. Seasonal Relief From Allocations for QT in the Dragon and Zuni Point Corridors

The FAA and the NPS propose to provide an additional QT incentive in the Dragon and Zuni Point corridors where QT can have the greatest positive effect on park resources and where the need for relief from allocations has been demonstrated. Under this proposed incentive, commercial air tour operators flying QT aircraft in the Dragon and Zuni Point corridors will initially be relieved from having such operations count against their annual allocations in the first quarter (January 1-March 31) of 2015. During this first quarter, QT flights will not use an allocation, while non-QT flights must still use an allocation. All commercial air tour flights, QT and non-QT, must use an allocation for the remainder of the year (April 1-December 31). However, operators will continue to benefit from the seasonal relief since they may use allocations in April through December that would otherwise have been used for QT flights conducted in January through March.

The first quarter of the calendar year has historically had the lowest level of commercial air tour operations. Providing this incentive initially in the first quarter of 2015 is a prudent action that gives the FAA and the NPS an opportunity to evaluate the impact of the incentive, including the extent to which commercial air tour operators continue to use QT in the remainder of the year, which will produce additional noise benefits for the park. The FAA and the NPS want to incentivize commercial air tour operators to maximize the use of QT throughout the year. To that end, the seasonal relief from allocations may be extended to part or all of the fourth quarter (October 1-December 31) in 2016 and following years, in addition to the first quarter, based on an evaluation of the preceding year. In 2015, the more that increased QT use reduces the noise level below the noise baseline described in the following paragraph, the greater the prospect for operators to have additional seasonal relief from allocations in 2016.

To meet the statutory conditions in NPATMA and MAP-21, the FAA and the NPS must ensure that the cumulative impact of QT operations relieved from allocations does not increase noise at the park. For this proposed seasonal relief incentive, this means that the annual noise from both QT and non-QT commercial air tour flights conducted in the Dragon and Zuni Point corridors must not exceed the annual noise level of commercial air tour flights in these corridors under the current allocation system. The FAA and the NPS have modeled the noise of commercial air tour allocations in the Dragon and Zuni Point corridors as flown with the 2012 commercial air tour fleet mix and route structure—resulting in a noise baseline of LEQ12 58.1 dB.¹ To determine if there is an increase in noise associated with this incentive, the FAA and the NPS will model the annual noise from all commercial air tour operations conducted in the Dragon and Zuni Point corridors and compare the annual noise with the seasonal relief incentive in place with the noise baseline of all commercial air tour allocations in these corridors. Noise will be determined to increase if the annual modeled LEQ12 noise of commercial air tour operations in the Dragon and Zuni Point corridors exceeds LEQ12 58.1 dB. If noise in any year exceeds the noise baseline, the seasonal relief incentive will be modified or discontinued as determined necessary to comply with the statutory condition.

¹ LEQ12 stands for Equivalent Sound Level for 12 hours, which is a cumulative measure of the noise exposure of A-weighted sound levels over a 12-hour period. For this purpose, the LEQ was calculated annually and averaged over the park to get a single LEQ12 value.

To ensure that this incentive will not diminish the achievement of substantial restoration of natural quiet and experience at the park, all commercial air tour aircraft including QT must adhere to the existing route structure throughout the park, including the Dragon and Zuni Point corridors.

This incentive applies only to commercial air tour operators that currently have allocations in the Dragon and Zuni Point corridors; i.e., operators must have allocations in these corridors in order to be relieved from allocations. It does not apply elsewhere in the Grand Canyon Special Flight Rules Area (SFRA). There is an ample unused surplus of commercial air tour allocations in the SFRA outside of the Dragon and Zuni Point corridors; therefore, operators conducting air tours in these other SFRA areas do not need relief from allocations and would not be incentivized to convert to QT by a seasonal relief incentive.

If the seasonal relief in the Dragon and Zuni Point corridors is a successful QT incentive, it is proposed to remain in effect unless it violates the statutory condition that the cumulative effect of such operations must not increase noise at the Grand Canyon or diminishes the achievement of substantial restoration of natural quiet, in which case it will be either modified or discontinued; or until a longer term approach for managing air tour noise in the park is in place.

The FAA and the NPS commit to developing a long term approach for managing noise in the park in an expeditious manner. Any long term approach will continue to incentivize conversion to QT and will not penalize earlier conversion to QT realized through the seasonal relief incentive.

IV. Implementation Steps

All comments on this proposed incentive will be considered and will inform the agencies' next steps. If the agencies proceed with the seasonal relief incentive as proposed in this notice or as modified in response to comments, the FAA will implement the incentive by amending the operations specifications of commercial air tour operators holding allocations in the Dragon and Zuni Point corridors to allow them to conduct air tours with QT aircraft without using an allocation for such tours in the specified seasonal time periods. The FAA and the NPS will cooperatively ensure that the statutory conditions protecting the park are met.

V. Environmental Considerations

This action involving the FAA's amendment of operations specifications is categorically excluded from more detailed environmental review because it would not have a significant effect on the environment. The FAA and the NPS have designed this incentive to ensure compliance with the statutory conditions that the cumulative impact of QT operating without allocations does not increase noise and that the incentive does not diminish the statutory mandate to achieve the substantial restoration of natural quiet at the park.

Issued in Hawthorne, CA, on October 7, 2014.
Glen A. Martin,
Regional Administrator, Western-Pacific Region, Federal Aviation Administration.
Issued in Lakewood, CO, on October 16, 2014.
Sue E. Masica,
Regional Director, Intermountain Region, National Park Service.

[FR Doc. 2014-26668 Filed 11-7-14; 8:45 am]

BILLING CODE 4910-13-P